DEPARTMENT OF HEALTH AND HUMAN SERVICES

Office of the National Coordinator for Health Information Technology; Notice of Public Meeting

ACTION: Notice of intent to hold a public meeting to share information on establishing an American Health Information Community Successor.

SUMMARY: On September 5, 2007, the Office of the National Coordinator for Health Information Technology will lead a technical assistance public meeting to share information and answer detailed questions about plans to design and establish a successor to the American Health Information community, including information on the Notice of Funding Availability.

The AHIC is a federally chartered advisory committee that provides input and recommendations to the Department of Health and Human Services (HHS) on how to make health records digital and interoperable, and how to assure that the privacy and security of those records are protected. (Please visit http://www.hhs.gov/healthit/community/background/ for more information on the AHIC.) The AHIC charter specifies that the AHIC will develop and advance recommendations to the Secretary on a private-sector health information community initiative that will succeed the AHIC. The AHIC successor will bring together public and private, not-for-profit and for-profit entities that represent all sectors of the health community. This new public-private partnership will develop a unified approach to realize an effective, secure, interoperable nationwide health information system that improves the quality, safety, and efficiency of health care in the U.S. For the purposes of facilitating the establishment of the AHIC successor and convening a planning board, HHS will award a Cooperative Agreement that allows for substantial involvement by the Federal government. Once a new legal entity is established and after certain conditions are met, HHS will support that entity through additional funding that will enable initial operations and transition of specific AHIC responsibilities by late Fall 2008.

DATES: September 5, 2007, from 9:30 a.m. to 12 p.m. (EDT); registration opens at 9 a.m.

ADDRESSES: Hubert H. Humphrey building (200 Independence Avenue, SW., Washington, DC 20201), Conference Room 705A.

A link to the Web cast of the public meeting will be available on the AHIC transition Web site at: http://www.hhs.gov/healthit/community/background/AHICsuccessor.html.

Instructions will be available on the day of the meeting about how to submit questions or comments via phone or e-mail.

FOR FURTHER INFORMATION CONTACT: Visit http://www.hhs.gov/healthit/community/background/AHICsuccessor.html.

Dated: August 20, 2007.
Judith Sparrow,
Director, American Health Information Community, Office of Programs and Coordination, Office of the National Coordinator for Health Information Technology.

[FR Doc. 07-4151 Filed 8-23-07; 8:45 am]

BILLING CODE 4150-24-M